DEPARTMENT OF ENERGY

National Energy Technology Laboratory; Notice of Availability of a Funding Opportunity Announcement

AGENCY: National Energy Technology Laboratory, Department of Energy (DOE).

ACTION: Notice of availability of a Funding Opportunity Announcement.

SUMMARY: Notice is hereby given of the intent to issue, on behalf of the DOE Office of Energy Assurance (OEA), Funding Opportunity Announcement No. DE-PS26-04NT42071 entitled Development of Technologies for Assurance of the U.S. Energy Infrastructure. The funding opportunity announcement will request applicants to submit proposals in any of three Areas of Interest: 1. Physical Security, 2. Cyber Security, and 3. Modeling, Simulation and Analysis. Technologies proposed in the Areas of Interest should protect the critical energy infrastructure. Critical infrastructures are systems, such as the United States' energy system, whose extensive incapacity or destruction would have a debilitating impact on the defense and economic security of our Nation. For the purposes of this funding opportunity announcement, the scope of the energy infrastructure shall be limited to the following: Electrical Delivery Assets (Non-nuclear central generation facilities, including fossil-fired and hydroelectric plants; High-voltage transmission equipment, including critical substations, switchyards and transmission towers; Low-voltage distribution assets, including related substations and switchyards; End user & on-site generation equipment; Control-and-command assets, such as SCADA (Supervisory Control and Data Acquisition) and communications and monitoring systems associated with electrical delivery). Fuel Processing & Storage Assets (Refineries; Mid-stream natural gas processing plants located at the end of gathering systems and interstate pipelines; Natural gas storage facilities, including underground areas (aquifers, depleted oil and gas fields, and salt caverns); Liquid storage facilities, including above-ground facilities for storing LNG (liquid natural gas), facilities for storing LPG (liquid petroleum gases)-propane, ethane, etc., retail gasoline facilities and oil/gas tank farms; and, Control-and-command assets, such as SCADA and communications and monitoring systems associated with fuel processing and storage). Delivery Systems (Natural gas pipelines, including compression stations and hubs; Liquid pipelines and pumping stations delivering/pumping crude oil, refined products, or LPG; Control-and-command assets, such as SCADA and communications and monitoring systems associated with delivery systems). Exploration and Production (Onshore production facilities and Offshore production facilities).

DATES: The funding opportunity announcement will be available on the “Industry Interactive Procurement System” (IIPS) Web page located at http://e-center.doe.gov on or about March 6, 2004. Applicants can obtain access to the funding opportunity announcement from the address above or through DOE/NETL's Web site at http://www.netl.doe.gov/business.

ADDRESSES: Questions and comments regarding the content of the announcement should be submitted through the “Submit Question” feature of IIPS at http://e-center.doe.gov. Locate the announcement on IIPS and then click on the “Submit Question” button. You will receive an electronic notification that your question has been answered. Responses to questions may be viewed through the “View Questions” feature. If no questions have been answered, a statement to that effect will appear. You should periodically check “View Questions” for new questions and answers.

FOR FURTHER INFORMATION CONTACT: Ms. Patricia Reger,U.S. Department of Energy,National Energy Technology Laboratory,3610 Collins Ferry Road,P.O. Box 880,Morgantown WV 26507-0880,E-mail Address: Patricia.Reger@netl.doe.gov, Telephone Number: 304-285-4084.

SUPPLEMENTARY INFORMATION: National Laboratories are not permitted to participate as prime contractors in response to this funding opportunity announcement. Participation by National Laboratories as subcontractors shall be limited to 10% of the award value. Once released, the funding opportunity announcement will be available for downloading from the IIPS Internet page. At this Internet site you will also be able to register with IIPS, enabling you to submit an application. If you need technical assistance in registering or for any other IIPS function, call the IIPS Help Desk at (800) 683-0751 or E-mail the Help Desk personnel at IIPS_HelpDesk@e-center.doe.gov. The funding opportunity announcement will only be made available in IIPS, no hard (paper) copies of the funding opportunity announcement and related documents will be made available.

Telephone requests, written requests, E-mail requests, or facsimile requests for a copy of the funding opportunity announcement package will not be accepted and/or honored. Applications must be prepared and submitted in accordance with the instructions and forms contained in the funding opportunity announcement. The actual funding opportunity announcement document will allow for requests for explanation and/or interpretation.

Issued in Morgantown, WV, on February 19, 2004.
Dale A. Siciliano,
Director, Acquisition and Assistance Division.

[FR Doc. 04-4583 Filed 3-1-04; 8:45 am]

BILLING CODE 6450-01-P